DEPARTMENT OF THE INTERIOR

Bureau of Land Management

[LLCON00000-L18200000.XX0000-19X]

Notice of Public Meeting, Northwest Resource Advisory Council

AGENCY: Bureau of Land Management, Interior.

ACTION: Notice of public meeting.

SUMMARY: In accordance with the Federal Land Policy and Management Act and the Federal Advisory Committee Act of 1972, the U.S. Department of the Interior, Bureau of Land Management (BLM) Northwest Resource Advisory Council (RAC) will meet as indicated below.

DATES: The meeting will be held on April 25, 2019, from 8:00 a.m. to 3:00 p.m.

ADDRESSES: The meeting will be held at the Rio Blanco County Fairgrounds 4H Community Center, 700 Sulphur Creek Road in Meeker, Colorado.

FOR FURTHER INFORMATION CONTACT: David Boyd, Public Affairs Specialist, Northwest District Office, 2300 River Frontage Road, Silt, Colorado 81652. Phone: (970) 876-9008. Email: dboyd@blm.gov. Persons who use a telecommunications device for the deaf (TDD) may call the Federal Relay Service (FRS) at 1-800-877-8339 to contact the above individual during normal business hours. The FRS is available 24 hours a day, seven days a week, to leave a message or question with the above individual. You will receive a reply during normal business hours.

SUPPLEMENTARY INFORMATION: The 15-member Northwest Colorado RAC advises the Secretary of the Interior, through the Bureau of Land Management, on a variety of public land issues in the Northwest District including the Colorado River Valley, Kremmling, Little Snake and White River field offices. Agenda items for this meeting include wild horse management, an informational presentation about a campground fee proposal, the Canyon Pintado National Historic District, travel management, and district and field manager updates. This meeting is open to the public, and public comment periods will be held at 10 a.m. and 2 p.m. Depending on the number of persons wishing to comment and time available, the time for individual oral comments may be limited. The public may present written comments to the Northwest RAC. Before including your address, phone number, email address, or other personal identifying information in your comment, you should be aware that your entire comment—including your personal identifying information—may be made publicly available at any time. While you can ask us in your comment to withhold your personal identifying information from public review, we cannot guarantee that we will be able to do so.

Summary minutes for the RAC meeting will be maintained in the Northwest District Office and will be available for public inspection and reproduction during regular business hours within thirty (30) days following the meeting. Previous RAC meeting minutes and agendas are available at: https://go.usa.gov/xEnzP.

Jamie E. Connell,
BLM Colorado State Director.

[FR Doc. 2019-06378 Filed 4-1-19; 8:45 am]

BILLING CODE 4310-JB-P